DEPARTMENT OF TRANSPORTATION

Office of the Secretary

Certificates of Public Convenience and Necessity and Foreign Air Carrier Permits; Notice of Applications for Certificates of Public Convenience and Necessity and Foreign Air Carrier Permits Filed Under Subpart B (formerly Subpart Q) During the Week Ending March 23, 2013

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2013-0056.

Date Filed: March 19, 2013.

Due Date for Answers, Conforming Applications, or Motion To Modify Scope: April 9, 2013.

Description: Application of GainJet Aviation S.A. (“GainJet”) requesting an exemption and a foreign air carrier permit authorizing it to engage in: (a) Foreign charter air transportation of persons, property and mail from any point or points behind any Member State of the European Union, via any point or points in any Member State and via intermediate points to any point or points in the United States and beyond; (b) foreign charter air transportation of persons, property and mail between any point or points in the United States and any point or points in any member of the European Common Aviation Area; (c) foreign charter air transportation of cargo between any point or points in the United States and any other point or points; (d) other charters pursuant to the prior approval requirements; and (e) charter transportation authorized by any additional route rights or made available to European Union carriers in the future.

Docket Number: DOT-OST-2013-0057.

Date Filed: March 20, 2013.

Due Date for Answers, Conforming Applications, or Motion To Modify Scope: April 10, 2013.

Description: Application of Alaska Seaplane Service, LLC requesting reissuance of its certificate of public convenience and necessity in the name of Kalinin Aviation LLC, d/b/a Alaska Seaplanes.

Docket Number: DOT-OST-2013-0061.

Date Filed: March 22, 2013.

Due Date for Answers, Conforming Applications, or Motion To Modify Scope: April 12, 2013.

Description: Application of Corporate Flight Management, Inc. requesting authority to operate scheduled passenger service as a commuter air carrier.

Barbara J. Hairston,
Acting Program Manager, Docket Operations, Federal Register Liaison.

[FR Doc. 2013-07835 Filed 4-3-13; 8:45 am]

BILLING CODE 4910-9X-P